DEPARTMENT OF ENERGY

Federal Energy Regulatory Commission

[Docket No. AD08-2-000]

Interconnection Queuing Practices; Notice of Technical Conference

November 2, 2007.

Take notice that a staff-led technical conference will be held on Tuesday, December 11, 2007 from approximately 9 a.m. to 4 p.m. (EST) in the Commission Meeting Room of the Federal Energy Regulatory Commission at 888 First Street NE., Washington, DC 20426. Commissioners may attend. An additional notice of this technical conference will be issued at a later date finalizing the agenda.

In 2003, the Commission issued Order No. 2003 to standardize the agreements and procedures related to the interconnection of large generating facilities.¹ The industry has now had four years of experience with the management of interconnection queues since the issuance of Order No. 2003, during which time a number of queue-related issues have arisen. The Commission understands that a large amount of new generation is planned to be added to the nation's elecrtric system in the near future, including unprecedented levels of renewable generation that may face queue-related challenges in addition to those faced by traditional generation.

¹ Standardization of Generator Interconnection Agreements and Procedures, Order No. 2003, 18 CFR § 35, FERC Stats. & Regs. ¶ 31,146 (2003), order on reh'g, Order No. 2003-A, FERC Stats. & Regs. ¶ 31,160, order on reh'g, Order No. 2003-B, FERC Stats. & Regs. ¶ 31,171 (2004), order on reh'g, Order No. 2003-C, FERC Stats. & Regs. ¶ 31,190 (2005), aff'd sub nom. Nat'l Ass'n of Regulatory Util. Comm'rs v. FERC, 475 F.3d 1277 (D.C. Cir. 2007). See also Standardization of Small Generator Interconnection Agreements and Procedures, Order No. 2006, FERC Stats. & Regs. ¶ 31,180, order on reh'g, Order No. 2006-A, FERC Stats. & Regs. ¶ 31,196 (2005), order granting clarification, Order No. 2006-B, FERC Stats. & Regs. ¶ 31,221 (2006), appeal pending sub nom. Consol. Edison Co. of N.Y., Inc. v. FERC, Nos. 06-1275, et al. (D.C. Cir. filed July 14, 2006 and later); Interconnection for Wind Energy, Order No. 661, FERC Stats. & Regs. ¶ 31,186 (2005), order on reh'g, Order No. 661-A, FERC Stats. & Regs. ¶ 31,198 (2005).

Through this conference, Commission staff seeks information as to any queue issues that may have arisen since issuance of Order No. 2003 and solutions that may have been developed or proposed to deal with those queue issues. Staff wishes to explore any existing practices that have proven effective in addressing interconnection queue problems experienced by both traditional and renewable generation.

Commission staff is now soliciting nominations for speakers at the technical conference. Persons wishing to nominate themselves as speakers should do so using the following electronic link: https://www.ferc.gov/whats-new/registration/inter-queuing-practices-12-11-speaker-form.asp. Such nominations must be made before the close of business on Friday, November 15, 2007, so that an agenda for the technical conference can be drafted and published. Speakers may propose specific topics that they believe should be addressed at the conference.

Transcripts of the conference will be immediately available from Ace Reporting Company (202-347-3700 or 1-800-336-6646) for a fee. They will be available for the public on the Commission's eLibrary system seven calendar days after FERC receives the transcript.

A free webcast of this event will be available through http://www.ferc.gov. Anyone with Internet access who desires to view this event can do so by navigating to www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Perkowski or David Reininger at 703-993-3100.

FERC conferences are accessible under section 508 of the Rehabilitation Act of 1973. For accessibility accommodations please send an e-mail to accessibility@ferc.gov or call toll free 1-866-208-3372 (voice) or 202-208-8659 (TTY), or send a FAX to 202-208-2106 with the required accommodations.

For further information about these conferences, please contact: Sarah McKinley, Office of External Affairs, 888 First Street, NE., Washington, DC 20426, (202) 502-8368, sarah.mckinley@ferc.gov.

Kimberly D. Bose,
Secretary.

[FR Doc. E7-22017 Filed 11-8-07; 8:45 am]

BILLING CODE 6717-01-P